DEPARTMENT OF HEALTH AND HUMAN SERVICES

Centers for Disease Control and Prevention

[Program Announcement 05005]

Use of Electronic Data To Improve Antimicrobial Use; Notice of Intent To Fund Single Eligibility Award

A. Purpose

The Centers for Disease Control and Prevention (CDC) announces the intent to fund fiscal year (FY) 2005 funds for a cooperative agreement program to evaluate the use of electronically-initiated interventions associated to educational interventions to improve antimicrobial use in hospitals. The Catalog of Federal Domestic Assistance number for this program is 93.283.

B. Eligible Applicant

Assistance will be provided only to the Cook County Bureau of Health Services, Hekoteon Institute. For the past five years (12/98 thru 11/2004), the Cook County Bureau of Health Services has been awarded funds under Program Announcement 98039 entitled “Programs to Prevent the Emergence and Spread of Antimicrobial Resistance: Chicago Antimicrobial Resistance Project (CARP).” The CARP project has an existing computer-based surveillance system with the ability to merge patient-level pharmacy and lab (micro, renal function, etc.) data; an algorithm developed and tested to detect patient receiving potentially redundant antimicrobial therapy; the ability to electronically assess antibiotic use and antibiotic starts from date warehouse and data on redundant antimicrobial use. CARP also has data on about 1189 inpatients: 192 received potentially redundant antibiotics; in 71 percent, the use of redundant antibiotics was inappropriate. Following identification of inappropriate use, 98 percent of episodes were corrected by a clinical pharmacist. Further evaluation is critical to assess educational interventions that could be generalized to several healthcare facilities where a pharmacist is not available.

C. Funding

Approximately $250,000 is available in FY 2005 to fund this award. It is expected that the award will begin on or before December, 2004, and will be made for an 18-month budget period within a project period of up to 18-months. Funding estimates may change.

D. Where To Obtain Additional Information

For general comments or questions about this announcement, contact: Technical Information Management, CDC Procurement and Grants Office, 2920 Brandywine Road, Atlanta, GA 30341-4146, telephone: 770-488-2700.

For technical questions about this program, contact: Denise Cardo, M.D., Project Officer, Centers for Disease Control and Prevention,National Center for Infectious Diseases,1600 Clifton Road, NE.,Mailstop A-07,Atlanta, GA 30333, telephone: 404-498-1160, e-mail: DCardo@cdc.gov.

Dated: August 6, 2004.
William P. Nichols,
Acting Director, Procurement and Grants Office, Centers for Disease Control and Prevention.

[FR Doc. 04-18436 Filed 8-11-04; 8:45 am]

BILLING CODE 4163-18-P